DEPARTMENT OF ENERGY

Federal Energy Regulatory Commission

[Docket No. RP04-12-000]

Florida Gas Transmission Company; Notice of Informal Settlement Conference

February 25, 2004.

Take notice that an informal settlement conference will be convened in this proceeding commencing at 9:30 a.m. on Thursday, March 11, 2004, and 9 a.m. on Friday, March 12, 2004, in a room to be designated at a later date, at the offices of the Federal Energy Regulatory Commission, 888 First Street, NE., Washington, DC 20426, for the purpose of exploring the possible settlement in the above-referenced docket.

Any party, as defined by 18 CFR 385.102(c), or any participant as defined by 18 CFR 385.102(b), is invited to attend. Persons wishing to become a party must move to intervene and receive intervenor status pursuant to the Commission's regulations(18 CFR 385.214).

For additional information, please contact Hollis Alpert at 202-502-8783, hollis.alpert@ferc.gov. or Carmen Gastilo at 202-502-6447, carmen.gastilo@ferc.gov.

Magalie R. Salas,
Secretary.

[FR Doc. E4-446 Filed 3-2-04; 8:45 am]

BILLING CODE 6717-01-P